DEPARTMENT OF JUSTICE

[OMB Number 1110-0055]

Agency Information Collection Activities; Proposed eCollection eComments Requested; NICS Firearm Disposition Record

AGENCY: Federal Bureau of Investigation, Department of Justice.

ACTION: 30-Day notice.

SUMMARY: The Federal Bureau of Investigation (FBI), Criminal Justice Information Services Division, Department of Justice (DOJ), will be submitting the following information collection request to the Office of Management and Budget (OMB) for review and approval in accordance with the Paperwork Reduction Act of 1995. The proposed information collection was previously published in the Federal Register on September 15, 2023, allowing a 60-day comment period.

DATES: Comments are encouraged and will be accepted for 30 days until December 18, 2023.

FOR FURTHER INFORMATION CONTACT: If you have comments especially on the estimated public burden or associated response time, suggestions, or need a copy of the proposed information collection instrument with instructions or additional information, please contact Jill A. Montgomery, NICS Business and Liaison Unit Chief, Federal Bureau of Investigation, Criminal Justice Information Services Division, National Instant Criminal Background Check System Section, 1000 Custer Hollow Road, Clarksburg, West Virginia 26306, nicsliaison@fbi.gov or (304) 625-2000.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number 1110-0055. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a previously approved collection.

2. Title of the Form/Collection: NICS Firearm Disposition Record.

3. Agency form number, if any, and the applicable component of the Department of Justice sponsoring the collection: Form number: None. Component: CJIS Division.

4. Affected public who will be asked or required to respond, as well as a brief abstract:

Affected Public: State, local and tribal governments, Federal Government.

Abstract: November 1993, the Brady Handgun Violence Prevention Act of 1993 (Brady Act) Public Law 103-159, was signed into law. The permanent provisions of the Brady Act, which went into effect on November 30, 1998, required the United States Attorney General to establish a NICS that FFLs may contact by telephone, or other electronic means in addition to telephone for information to be supplied immediately on whether the receipt of a firearm by a prospective transferee would violate section 922 (g) or (n) of title 18, United States Code, or state law. There are additional authorized uses of NICS found at 28 CFR 25.6(j). The FBI authorized CJAs to initiate a NICS background check to assist their transfer of firearms to private individuals as a change to 28 CFR 25.6(j) in the Federal Register.

5. Obligation to Respond: Mandatory per 28 CFR 25.6(j).

6. Total Estimated Number of Respondents: 20,172.

7. Estimated Time per Respondent: Three minutes.

8. Frequency: 6.2 (6.24697601) times per year.

9. Total Estimated Annual Time Burden: 126,014 hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: November 9, 2023.
Darwin Arceo,
Department Clearance Officer for PRA, U.S. Department of Justice.

[FR Doc. 2023-25147 Filed 11-15-23; 8:45 am]

BILLING CODE 4410-02-P